FEDERAL ELECTION COMMISSION

[Notice 2021-09]

Filing Dates for the Florida Special Elections in the 20th Congressional District

AGENCY: Federal Election Commission.

ACTION: Notice of filing dates for special election.

SUMMARY: Florida has scheduled special elections on November 2, 2021, and January 11, 2022, to fill the U.S. House of Representatives seat in the 20th Congressional District held by the late Representative Alcee Hastings. Committees required to file reports in connection with the Special Primary Election on November 2, 2021, shall file a 12-day Pre-Primary Report. Committees required to file reports in connection with both the Special Primary and Special General Election on January 11, 2022, shall file a 12-day Pre-Primary, a 12-day Pre-General, and a 30-day Post-General Report.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in the Florida Special Primary and Special General Elections shall file a 12-day Pre-Primary Report on October 21, 2021; a 12-day Pre-General Report on December 30, 2021; and a 30-day Post-General Report on February 10, 2022. (See charts below for the closing date for each report.)

Note that these reports are in addition to the campaign committee's regular quarterly filings. (See charts below for the closing date for each report).

Unauthorized Committees (PACs and Party Committees)

Political committees not filing monthly are subject to special election reporting if they make previously undisclosed contributions or expenditures in connection with the Florida Special Primary or Special General Elections by the close of books for the applicable report(s). (See charts below for the closing date for each report.)

Committees filing monthly that make contributions or expenditures in connection with the Florida Special Primary or Special General Elections will continue to file according to the monthly reporting schedule.

Additional disclosure information for the Florida special elections may be found on the FEC website at https://www.fec.gov/help-candidates-and-committees/dates-and-deadlines/.

Disclosure of Lobbyist Bundling Activity

Principal campaign committees, party committees and leadership PACs that are otherwise required to file reports in connection with the special elections must simultaneously file FEC Form 3L if they receive two or more bundled contributions from lobbyists/registrants or lobbyist/registrant PACs that aggregate in excess of $19,300 during the special election reporting periods. (See charts below for closing date of each period.) 11 CFR 104.22(a)(5)(v), (b), 110.17(e)(2), (f).

Calendar of Reporting Dates for Florida Special Elections
Report | Close of books ¹ | Reg./cert. & overnight mailing deadline | Filing deadline
Campaign Committees Involved in Only the Special Primary (11/02/2021) Must File:
October Quarterly |  | —WAIVED—
Pre-Primary | 10/13/2021 | 10/18/2021 | 10/21/2021
Year-End | 12/31/2021 | 01/31/2022 | 01/31/2022
PACs and Party Committees not Filing Monthly Involved in Only the Special Primary (11/02/2021) Must File:
Pre-Primary | 10/13/2021 | 10/18/2021 | 10/21/2021
Year-End | 12/31/2021 | 01/31/2022 | 01/31/2022
Campaign Committees Involved in Both the Special Primary (11/02/2021) and Special General (01/11/2022) Must File:
October Quarterly |  | —WAIVED—
Pre-Primary | 10/13/2021 | 10/18/2021 | 10/21/2021
Pre-General | 12/22/2021 | 12/27/2021 | 12/30/2021
Post-General | 01/31/2022 | 02/10/2022 | 02/10/2022
Year-End |  | —WAIVED—
PACs and Party Committees not Filing Monthly Involved in Both the Special Primary (11/02/2021) and the Special General (01/11/2022) Must File:
Pre-Primary | 10/13/2021 | 10/18/2021 | 10/21/2021
Pre-General | 12/22/2021 | 12/27/2021 | 12/30/2021
Post-General | 01/31/2022 | 02/10/2022 | 02/10/2022
Year-End |  | —WAIVED—
Campaign Committees Involved in Only the Special General (01/11/2022) Must File:
October Quarterly | 09/30/2021 | 10/15/2021 | 10/15/2021
Pre-General | 12/22/2021 | 12/27/2021 | 12/30/2021
Post-General | 01/31/2022 | 02/10/2022 | 02/10/2022
Year-End |  | —WAIVED—
PACs and Party Committees not Filing Monthly Involved in Only the Special General (01/11/2022) Must File:
Pre-General | 12/22/2021 | 12/27/2021 | 12/30/2021
Post-General | 01/31/2022 | 02/10/2022 | 02/10/2022
Year-End |  | —WAIVED—
¹ The reporting period always begins the day after the closing date of the last report filed. If the committee is new and has not previously filed a report, the first report must cover all activity that occurred before the committee registered as a political committee up through the close of books for the first report due.

Dated: May 13, 2021.
On behalf of the Commission,
Shana M. Broussard,
Chair, Federal Election Commission.

[FR Doc. 2021-10458 Filed 5-17-21; 8:45 am]

BILLING CODE 6715-01-P